FEDERAL COMMUNICATIONS COMMISSION

[FR ID 190215]

Open Commission Meeting Wednesday, December 13, 2023

The Federal Communications Commission will hold an Open Meeting on the subjects listed below on Wednesday, December 13, 2023, which is scheduled to commence at 10:30 a.m. in the Commission Meeting Room of the Federal Communications Commission, 45 L Street NE, Washington, DC.

While attendance at the Open Meeting is available to the public, the FCC headquarters building is not open access and all guests must check in with and be screened by FCC security at the main entrance on L Street. Attendees at the Open Meeting will not be required to have an appointment but must otherwise comply with protocols outlined at: www.fcc.gov/visit. Open Meetings are streamed live at: www.fcc.gov/live and on the FCC's YouTube channel.

Item No. | Bureau | Subject
1 | MEDIA | TITLE: Protecting Consumers from Early Termination and Billing Cycle Fees (MB Docket No. 23-405).
|  | SUMMARY: The Commission will consider a Notice of Proposed Rulemaking that would propose rules to protect consumers from video service junk fees, including early termination fees and billing cycle fees.
2 | CONSUMER AND GOVERNMENTAL AFFAIRS | TITLE: Targeting and Eliminating Unlawful Text Messages (CG Docket No. 21-402); Rules and Regulations Implementing the Telephone Consumer Protection Act of 1991 (CG Docket No. 02-278); and Advanced Methods to Target and Eliminate Unlawful Robocalls (CG Docket No. 17-59).
|  | SUMMARY: The Commission will consider a Second Report and Order, Second Further Notice of Proposed Rulemaking and Waiver Order to combat illegal robotexts by facilitating blocking of illegal robotexts, codifying do-not-call rules for texting, and closing a loophole that allows certain callers to inundate consumers with unwanted robocalls and robotexts. The item also seeks comment on further efforts to combat illegal robocalls and robotexts.
3 | WIRELESS TELECOMMUNICATIONS | TITLE: Achieving 100% Wireless Handset Model Hearing Aid Compatibility (WT Docket No. 23-388).
|  | SUMMARY: The Commission will consider a Notice of Proposed Rulemaking that tentatively concludes that hearing aid compatibility for 100% of wireless handset models is an achievable objective and seeks comment on proposals to implement this requirement.
4 | WIRELINE COMPETITION | TITLE: Faster Pole Attachment Processes for Broadband Deployment (WC Docket No. 17-84).
|  | SUMMARY: The Commission will consider a Fourth Report and Order, Declaratory Ruling, and Third Further Notice of Proposed Rulemaking to promote the deployment of broadband infrastructure by making the pole attachment process faster, more transparent, and more cost-effective by adopting rules allowing for faster resolution of pole attachment disputes and providing pole attachers with more detailed information about the poles they plan to use as part of their broadband buildouts. The Commission will also seek comment on ways to further facilitate the approval process for pole attachment applications and make ready to enable quicker broadband deployment.
5 | WIRELINE COMPETITION | TITLE: Improving the Rural Health Care Program (WC Docket No. 17-310).
|  | SUMMARY: The Commission will consider a Third Report and Order to improve the effectiveness and efficiency of the Rural Health Care Program. The improvements under consideration would reduce burdens on, and enhance flexibility for, program participants, simplify existing program rules, and free up for other uses unclaimed program support.
6 | WIRELINE COMPETITION | TITLE: Data Breach Notification Rules (WC Docket No. 22-21).
|  | SUMMARY: The Commission will consider a Report and Order to update the Commission's data breach notification rules in order to ensure that providers are held accountable in their obligations to safeguard sensitive customer information, and provide customers with the tools needed to protect themselves in the event that their data is compromised.
7 | MEDIA | TITLE: Implementation of the Low Power Protection Act (MB Docket No. 23-126).
|  | SUMMARY: The Commission will consider a Report and Order to implement the Low Power Protection Act by providing eligible low-power television stations with an opportunity to apply for primary status and protect their ability to deliver local programming.
8 | ENFORCEMENT | TITLE: Enforcement Bureau Action.
|  | SUMMARY: The Commission will consider an enforcement action.

* * * * *

The meeting will be webcast at: www.fcc.gov/live. Open captioning will be provided as well as a text only version on the FCC website. Other reasonable accommodations for people with disabilities are available upon request. In your request, include a description of the accommodation you will need and a way we can contact you if we need more information. Last minute requests will be accepted but may be impossible to fill. Send an email to: fcc504@fcc.gov or call the Consumer & Governmental Affairs Bureau at 202-418-0530.

Press Access—Members of the news media are welcome to attend the meeting and will be provided reserved seating on a first-come, first-served basis. Following the meeting, the Chairwoman may hold a news conference in which she will take questions from credentialed members of the press in attendance. Also, senior policy and legal staff will be made available to the press in attendance for questions related to the items on the meeting agenda. Commissioners may also choose to hold press conferences. Press may also direct questions to the Office of Media Relations (OMR): MediaRelations@fcc.gov. Questions about credentialing should be directed to OMR.

Additional information concerning this meeting may be obtained from the Office of Media Relations, (202) 418-0500. Audio/Video coverage of the meeting will be broadcast live with open captioning over the internet from the FCC Live web page at www.fcc.gov/live.

Federal Communications Commission.
Dated: December 6, 2023.
Marlene Dortch,
Secretary.

[FR Doc. 2023-27208 Filed 12-11-23; 8:45 am]

BILLING CODE 6712-01-P